DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: The Health Education Assistance Loan (HEAL) Program: Forms (OMB No. 0915-0034) Extension

This clearance request is for extension of approval for four HEAL forms: the Lenders Application for Contract of Federal Loan Insurance (used by lenders to make application to the HEAL insurance program); the Lender's Manifest (used by the lender to report recent HEAL loan activity); the Loan Transfer Statement (used by the lender to report the transfer of a HEAL loan); and the Borrower Status Request (completed by the borrower and the borrower's employer and used by the lender to determine eligibility for deferment). The reports assist the Department in protecting its investment in this loan insurance program.

The estimate of burden for the forms are as follows:

Collection activity | Number of respondents | Responses per respondent | Total responses | Average time per response (in minutes) | Total burden hours
HRSA Form 504 | 22 | 1 | 22 | 8 | 3
HRSA Form 508:
Borrowers | 12,430 | 1 | 12,430 | 10 | 2,071
Employers | 7,550 | 1.646 | 12,430 | 5 | 1,035
Borrower Loan Status Update Electronic Submission | 22 | 8,498 | 186,970 | 3 | 9,348
Loan Purchase/consolidation Electronic Submission | 22 | 850 | 18,700 | 4 | 1,246
Total | 20,046 |  | 227,552 |  | 13,703

Written comments and recommendations concerning the proposed information collection should be sent within 30 days of this notice to: John Morrall, Human Resources and Housing Branch, Office of Management and Budget, New Executive Office Building, Room 10235, Washington, DC 20503.

Dated: June 1, 2000.
Jane Harrison,
Director, Division of Policy Review and Coordination.

[FR Doc. 00-14273 Filed 6-6-00; 8:45 am]

BILLING CODE 4160-15-P